ENVIRONMENTAL PROTECTION AGENCY

[EPA-HQ-OPP-2007-0098; FRL-8146-5]

Tribal Pesticide Program Council; Notice of Public Meeting

AGENCY: Environmental Protection Agency (EPA).

ACTION: Notice.

SUMMARY: The Tribal Pesticide Program Council will hold a 2-1/2 day meeting, beginning on October 10, 2007 and ending October 12, 2007. This notice announces the location and times for the meeting and sets forth the tentative agenda topics.

DATES: The meeting will be held on October 10-11, 2007 from 9 a.m. to 5p.m. and 9 a.m. to 12 noon on October 12, 2007.

To request accommodation of a disability, please contact the person listed under FOR FURTHER INFORMATON CONTACT, preferably at least 10 days prior to the meeting, to give EPA as much time as possible to process your request.

ADDRESSES: The meeting will be held at the BlueWater Resort & Casino, 11300 Resort Drive, Parker, AZ 85344.

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Lillian Wilmore, TPPC Coordinator, PO Box 470329 Brookline Village, MA 02447; Telephone: (617) 232-5742; Fax: (617) 277-1656; e-mail address: NAEcology@aol.com.

SUPPLEMENTARY INFORMATION:

I. General Information

A. Does this Action Apply to Me?

You may be potentially affected by this action if you are interested in TPPC information exchange relationship with EPA regarding important issues related to human health, environmental exposure to pesticides, and insight into EPA's decision-making process, you are invited and encouraged to attend the meetings and participate as appropriate. ” Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket identification (ID) number EPA-HQ-OPPT-2007-0098 Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket telephone number is (703) 305-5805.

2. Electronic access. You may access this Federal Register document electronically through the EPA Internet under the “Federal Register” listings at http://www.epa.gov/fedrgstr.

II. Tentative Agenda:

1. TPPC State of the Council Report

2. Tribal Presentations

3. FIFRA Discussion (Problems for Tribes)

4. Section 18s and 24c Issues (FIFRA 2ee Solution/Yakama Pilot)

5. Tribal Invasive Species Working Group Report

6. Reports from the State FIFRA Issues Research Evaluation Group (SFIREG); Pesticide Program Dialogue Committee (PPDC); Forum on State and Tribal Toxics Actions (FOSTTA); California Indian Basketweavers Association (CIBA); National Tribal Environmental Council (NTEC); and Alaska Intertribal Council.

7. Tribal Caucus (TPPC Only)

8. US EPA Region Reports

9. Tribal Strategic Plan Follow-up Discussion

10. Endangered Specifies/Bulletins/Fish & Wildlife's to De-list the Bald Eagle.

11. Beyond the Navajo Nation C& T Plan/Certification and Training of applicators in Indian Country

12. Discussions on Inspection Reporting/Multi-tribal Options/Accountability/Measures.

List of Subjects

Environmental protection.

Dated: September 7, 2007.
William R. Diamond,
Director, Field External Affairs Division, Office of Pesticide Programs.

[FR Doc. E7-18353 Filed 9-18-07; 8:45 am]

BILLING CODE 6560-50-S